DEPARTMENT OF COMMERCE

Foreign-Trade Zones Board

[B-16-2024]

Foreign-Trade Zone 123—Denver, Colorado; Application for Reorganization Under Alternative Site Framework

An application has been submitted to the Foreign-Trade Zones (FTZ) Board by the World Trade Center Denver, grantee of FTZ 123, requesting authority to reorganize the zone under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on April 18, 2024.

FTZ 123 was approved by the FTZ Board on August 16, 1985 (Board Order 311, 50 FR 34729, August 27, 1985) and expanded on April 10, 2007 (Board Order 1509, 72 FR 19879-19880, April 20, 2007) and on October 23, 2009 (Board Order 1649, 74 FR 57629, November 9, 2009).

The current zone includes the following sites: Site 3 (760 acres)—Great Western Industrial Park, Eastman Park Drive and County Rd 23, Windsor; Site 4 (79 acres)—Denver International Airport, Denver; and, Site 7 (12 acres)—Aspen Distribution Inc., 19503 E. 34th Drive, Aurora.

The grantee's proposed service area under the ASF would be Adams, Arapahoe, Broomfield, Denver, Douglas, Elbert, and Morgan Counties and a portion of Larimer and Weld Counties, Colorado, as described in the application. If approved, the grantee would be able to serve sites throughout the service area based on companies' needs for FTZ designation. The application indicates that the proposed service area is within and adjacent to the Denver Customs and Border Protection port of entry.

The applicant is requesting authority to reorganize its existing zone to include Sites 3 and 4 as “magnet” sites and Site 7 as a “usage-driven” site. The application would have no impact on FTZ 123's previously authorized subzones.

In accordance with the FTZ Board's regulations, Qahira El-Amin of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is June 24, 2024. Rebuttal comments in response to material submitted during the foregoing period may be submitted during the subsequent 15-day period to July 8, 2024.

A copy of the application will be available for public inspection in the “Online FTZ Information Section” section of the FTZ Board's website, which is accessible via www.trade.gov/ftz. For further information, contact Qahira El-Amin at Qahira.El-Amin@trade.gov.

Dated: April 19, 2024.
Elizabeth Whiteman,
Executive Secretary.

[FR Doc. 2024-08752 Filed 4-23-24; 8:45 am]

BILLING CODE 3510-DS-P